DEPARTMENT OF DEFENSE

Department of the Air Force

Notice of Intent To Prepare an Environmental Impact Statement for Master Plan and Installation Development at Nellis Air Force Base, Nevada

AGENCY: Department of the Air Force.

ACTION: Notice of intent.

SUMMARY: The Department of the Air Force (Air Force) is issuing this Notice of Intent (NOI) to prepare an Environmental Impact Statement (EIS) to assess the potential social, economic, and environmental impacts associated with the proposed master plan and installation development at Nellis Air Force Base (AFB), Nevada.

DATES: A public scoping period of 30 days will take place starting from the date of the publication of this NOI in the Federal Register. Comments will be accepted at any time during the environmental impact analysis process; however, to ensure the Air Force has sufficient time to consider public scoping comments during preparation of the Draft EIS, please submit comments within the 30-day scoping period. The Draft EIS is anticipated in late 2024. The Final EIS and a decision on which alternative to implement is expected in late 2025.

During the scoping period, the Air Force will hold two in-person public scoping meetings: November 14 and 15, 2023, from 5:00 p.m. to 7:00 p.m., at the Cora Coleman Senior Center located at 2100 Bonnie Lane, Las Vegas, NV 89156. Both meetings are at the same location but offered on two different days to provide options to interested individuals.

ADDRESSES: All public meeting materials may be viewed on the EIS website (https://www.nellisafbeis.com). For those without access to a computer or the internet, copies of the scoping materials may be obtained by submitting a request to Nellis AFB Public Affairs at (702) 652-2750. Scoping comments may be submitted by one of the following methods: (1) submit a written comment in person at one of the two public scoping meetings, (2) mail a written comment to Attn: Master Plan and Installation Development at Nellis AFB, 2222 S 4th Avenue, P.O. Box 6257, Yuma, AZ 85366, and/or (3) submit a comment via the project website at https://www.nellisafbeis.com. For questions regarding the Proposed Action or EIS development, or to request sign language assistance at the in-person scoping meetings, contact Daniel Fisher at daniel.fisher.26@us.af.mil or (210) 925-2738.

SUPPLEMENTARY INFORMATION: Nellis AFB is proposing to develop the east side of the Installation. The purpose of the Proposed Action is to optimize Nellis AFB's current operational capabilities and capacity for future warfighting training and testing. The Proposed Action is needed because the current Nellis and United States Air Force Warfare Center mission sets are outpacing the ability to expand resources and capacity. In addition, the Air Force anticipates that facility requirements are likely to increase over time through normal attrition and the arrival of new missions and that the number of active duty and civilian personnel would also increase. The existing infrastructure does not meet current and future mission needs; mission capability at Nellis AFB is nearing physical capacity, and additional flightline support facilities and infrastructure are needed to meet anticipated future growth. The Proposed Action is also needed to relieve stress on facility and infrastructure constraints on the west side of the Installation. Flying units are currently sharing hangar space, which is not conducive to future mission growth. Presently, the Installation's infrastructure and utilities are a limitation to operational expansion and growth; utilities and the west-side ramp are reaching full operational capacity and must be expanded to accommodate future operations. Without expansion, the existing facilities and infrastructure at Nellis AFB would be insufficient to meet Air Force and Department of Defense current and future mission requirements.

The Proposed Action is development of the east side of Nellis AFB to address current mission constraints and future mission growth because the majority of the land available to construct facilities and infrastructure is located in the undeveloped area on the east side of the Installation. Constructed facilities and infrastructure will be grouped by functional land use category, and facilities with similar uses and mission functions will be located in the same general area. For planning purposes, the Air Force grouped similar mission activities into eight categories based on facility and infrastructure function and conservatively estimated the anticipated amount of impervious surface coverage typical of each functional category. The eight functional categories are Airfield Operations/Industrial/Light Industrial; Administrative/Small-scale Administrative; Medical/Community Services/Community Commercial/Small-scale Retail and Service; Lodging/Residential (Accompanied and Unaccompanied); Outdoor Recreation/Open Space/Training Space; Transportation; Utilities/Infrastructure; and Existing Pavements.

In order to address facility requirements needed to support current and future mission structure changes and the associated increase in mission personnel, the Air Force is proposing two alternatives to gain functional capacity and support future mission growth at Nellis AFB: Alternative 1, complete build-out covering approximately 2,000 acres, and Alternative 2, partial build-out covering approximately 1,486 acres. The Air Force will also evaluate a No Action Alternative in the EIS. The Air Force is early in the planning process and has not yet identified a Preferred Alternative.

The EIS will provide analysis to inform decision-makers, as well as the public and tribal partners, of the potential environmental consequences and any associated mitigation, and will provide interested persons or agencies opportunities to provide their input. The environmental impacts analysis is expected to focus on potential impacts related to air emissions from construction, potential threatened and endangered species impacts from construction and habitat reduction, soil and water quality impacts from soil compaction and erosion, stormwater impacts from the increase in impervious surfaces, and potential impacts to cultural resources. Impacts to transportation may include increased traffic on and off the Installation. Permitting actions for construction, air emissions, and stormwater pollution prevention may be required. The Air Force will also consult with appropriate resource agencies and Native American tribes to determine the potential for significant impacts. Consultation will be incorporated into the preparation of the EIS and will include, but not be limited to, consultation under Section 7 of the Endangered Species Act and consultation under Section 106 of the National Historic Preservation Act. Additional analysis will be provided in the Draft EIS.

Scoping and Agency Coordination: To effectively define the full range of issues to be evaluated in the EIS, the Air Force is soliciting comments from interested local, state, and federal officials and agencies; Native American tribes; and interested members of the public and other stakeholders. Comments are requested on potential alternatives and impacts, and identification of any relevant information, studies, or analyses of any kind concerning impacts affecting the quality of the natural and/or human environment. Concurrent with the publication of this Notice of Intent, public scoping notices will be announced locally.

Mia Day,
Acting Air Force Federal Register Liaison Officer.

[FR Doc. 2023-23047 Filed 10-18-23; 8:45 am]

BILLING CODE 5001-10-P